DEPARTMENT OF AGRICULTURE

Submission for OMB Review; Comment Request

February 7, 2020.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by March 13, 2020. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service (NASS)

Title: Field Crops Objective Yield—Substantive Change.

OMB Control Number: 0535-0088.

Summary of Collection: General authority for these data collection activities is granted under U.S. Code Title 7, Section 2204 which specifies that “The Secretary of Agriculture shall procure and preserve all information concerning agriculture which he can obtain . . . by the collection of statistics . . .” The primary objective of the National Agricultural Statistics Service (NASS) is to provide data users with timely and reliable agricultural production and economic statistics, as well as environmental and specialty agricultural related statistics. To accomplish this objective, NASS relies on the use of diverse surveys that show changes within the farming industry over time.

The current OMB approval for the Objective Yield (OY) Surveys, provides for the collection of data in major producing States for corn, upland cotton, fall potatoes, soybeans, and winter wheat. Major producing States are States that, when combined, produce over 75 percent of the respective commodities. Data from the OY surveys provide yield estimates for these commodities during the growing season and it is based on unbiased input by utilizing plant counts and other measurements during the growing season. Accurate yield estimates are extremely important because they are used in conjunction with price data to estimate production and value which are used in making policy decisions. The National Agricultural Statistics Service (NASS) is requesting a substantive change to the Objective Yield program. The changes will include the following:

• Eliminating Potato Objective Yield

• Removing Louisiana and North Carolina from Cotton Objective Yield

• Eliminating the August survey period for Cotton (except Texas), Corn, and Soybeans

• Reducing sample sizes for all field crops included in this program.

Following the conclusion of each Census of Agriculture, NASS reviews our overall survey and estimation programs to see what changes or adjustments need to be made in order to optimize the funds we are provided. This is done for the purpose of achieving our primary functions of preparing and issuing State and national estimates of crop and livestock production, disposition, and prices and to collect information on related environmental and economic factors. This substantive change resulted in an overall decrease in response burden of approximately 1,113 hours. The target sample size for enumerated questionnaires will be reduced by approximately 2,600.

Need and Use of the Information: Objective Yield estimates for field crops are used by NASS to provide unbiased input by utilizing plant counts and other measurements during the growing season. Accurate yield estimates are extremely important because they are used in conjunction with price data to estimate production and value which are used in making policy decisions.

Description of Respondents: Farms sampled for the County Estimates—Row Crops.

Number of Respondents: 13,250.

Frequency of Responses: Reporting: Once.

Total Burden Hours: 4,343.

Ruth Brown,
Departmental Information Collection Clearance Officer.

[FR Doc. 2020-02768 Filed 2-11-20; 8:45 am]

BILLING CODE 3410-20-P